DEPARTMENT OF ENERGY

Federal Energy Regulatory Commission

Combined Notice of Filings #1

Take notice that the Commission received the following exempt wholesale generator filings:

Docket Numbers: EG15-19-000.

Applicants: Capital Dynamics, Inc.

Description: Self-Certification of EWG of Green Pastures Wind II, LLC

Filed Date: 12/3/14.

Accession Number: 20141203-5183.

Comments Due: 5 p.m. ET 12/24/14.

Docket Numbers: EG15-20-000.

Applicants: Capital Dynamics, Inc.

Description: Self-Certification of EWG of Briscoe Wind Farm, LLC.

Filed Date: 12/3/14.

Accession Number: 20141203-5184.

Comments Due: 5 p.m. ET 12/24/14.

Take notice that the Commission received the following electric rate filings:

Docket Numbers: ER10-2331-027; ER14-630-004; ER14-1468-004; ER13-1351-002; ER10-2330-026; ER10-2326-026; ER10-2319-020; ER10-2317-020.

Applicants: J.P. Morgan Ventures Energy Corporation, AlphaGen Power LLC, BE Alabama LLC, BE CA LLC, Cedar Brakes I, L.L.C., KMC Thermo, LLC, Florida Power Development LLC, Utility Contract Funding, L.L.C.

Description: Non-Material Change in Status of the J.P. Morgan Sellers.

Filed Date: 12/3/14.

Accession Number: 20141203-5256.

Comments Due: 5 p.m. ET 12/24/14.

Docket Numbers: ER12-1589-004.

Applicants: Public Service Company of Colorado.

Description: Compliance filing per 35: 2014-12-3_PSCo ROE Comp Filing to be effective 11/17/2012.

Filed Date: 12/3/14.

Accession Number: 20141203-5175.

Comments Due: 5 p.m. ET 12/24/14.

Docket Numbers: ER14-2586-001.

Applicants: California Independent System Operator Corporation.

Description: Compliance filing per 35: 2014-12-03 Interconnection Process Enhancements 4-5_Compliance to be effective 2/2/2015.

Filed Date: 12/3/14.

Accession Number: 20141203-5208.

Comments Due: 5 p.m. ET 12/24/14.

Docket Numbers: ER14-2670-000.

Applicants: Pennsylvania Electric Company, Metropolitan Edison Company, PJM Interconnection, L.L.C.

Description: eTariff filing per 35.19a(b): Refund Report of ATSI, et al. under Docket Nos. ER14-2670 and ER14-2682 to be effective N/A.

Filed Date: 12/3/14.

Accession Number: 20141203-5188.

Comments Due: 5 p.m. ET 12/24/14.

Docket Numbers: ER15-567-000.

Applicants: NiGen, LLC.

Description: Initial rate filing per 35.12 Market Based Rate Tariff to be effective 12/4/2014.

Filed Date: 12/3/14.

Accession Number: 20141203-5149.

Comments Due: 5 p.m. ET 12/24/14.

Docket Numbers: ER15-568-000.

Applicants: Southwest Power Pool, Inc.

Description: § 205(d) rate filing per 35.13(a)(2)(iii): 2045R3 Westar Energy, Inc. NITSA and NOA to be effective 8/1/2014.

Filed Date: 12/3/14.

Accession Number: 20141203-5203.

Comments Due: 5 p.m. ET 12/24/14.

Docket Numbers: ER15-569-000.

Applicants: Southwest Power Pool, Inc.

Description: § 205(d) rate filing per 35.13(a)(2)(iii): 1895R3 Westar Energy, Inc. NITSA and NOA to be effective 8/1/2014.

Filed Date: 12/3/14.

Accession Number: 20141203-5205.

Comments Due: 5 p.m. ET 12/24/14.

Docket Numbers: ER15-570-000.

Applicants: Southwest Power Pool, Inc.

Description: § 205(d) rate filing per 35.13(a)(2)(iii): 1978R3 Westar Energy, Inc. NITSA and NOA to be effective 8/1/2014.

Filed Date: 12/3/14

Accession Number: 20141203-5207.

Comments Due: 5 p.m. ET 12/24/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2014.
Nathaniel J. Davis, Sr.,
Deputy Secretary.

[FR Doc. 2014-28945 Filed 12-9-14; 8:45 am]

BILLING CODE 6717-01-P